DEPARTMENT OF TRANSPORTATION

Federal Aviation Administration

14 CFR Part 39

[Docket No. FAA-2017-1068; Product Identifier 2017-CE-034-AD]

RIN 2120-AA64

Airworthiness Directives; Intreprinderea De Constructii Aeronautice Gliders

AGENCY: Federal Aviation Administration (FAA), Department of Transportation (DOT).

ACTION: Notice of proposed rulemaking (NPRM).

SUMMARY: We propose to adopt a new airworthiness directive (AD) for Intreprinderea De Constructii Aeronautice Model IS-28B2 gliders. This proposed AD results from mandatory continuing airworthiness information (MCAI) originated by an aviation authority of another country to identify and correct an unsafe condition on an aviation product. The MCAI describes the unsafe condition as cracks at stringers in the rear fuselage of several Model IS-28B2 gliders. We are issuing this proposed AD to require actions to address the unsafe condition on these products.

DATES: We must receive comments on this proposed AD by December 29, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Aeroclubul Romaniei, Bd.Lascar Catargiu, Nr.54, cod: 010673, Sector 1, Bucharest, Romania; telephone: 011+40 021-312-36-19; fax: 011+40 021-312-36-19; Internet: www.aeroclubulromaniei.ro; email: www.aeroclubulromaniei.ro/contact/.

You may review this referenced service information at the FAA, Policy and Innovation Division, 901 Locust, Kansas City, Missouri 64106. For information on the availability of this material at the FAA, call (816) 329-4148.

Examining the AD Docket

You may examine the AD docket on the Internet at http://www.regulations.gov by searching for and locating Docket No. FAA-2017-1068; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Standards Branch, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2017-1068; Product Identifier 2017-CE-034-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2016-0233, dated November 23, 2016 (referred to after this as “the MCAI”), to correct an unsafe condition for Intreprinderea De Constructii Aeronautice Model IS-28B2 gliders. The MCAI states:

Cracks were reportedly detected, located at stringers in the rear fuselage of a number of IS-28B2 sailplanes. The subsequent investigation attributed these cracks to induction of a pre-stress during the manufacturing process of the affected parts.

This condition, if not detected and corrected, could lead to reduced structural strength, possibly resulting in a loss of structural integrity of the sailplane.

To address this potentially unsafe condition, Aeroclubul Romaniei (AR) issued Service Bulletin (SB) SB-IS-28B2-AR-01 to provide inspection instructions. AR is currently developing modification(s) to provide a design solution for the affected sailplanes.

For the reasons described above, this [EASA] AD requires repetitive inspections of the structure of the rear fuselage and, depending on findings, accomplishment of applicable corrective action(s).

This [EASA] AD is considered to be an interim action and further AD action may follow.

Service Information Under 1 CFR Part 51

Aeroclubul Romaniei has issued Aeroclubul Romaniei Service Bulletin No.: SB-IS-28B2-AR-01, Revision 003, dated February 9, 2017 (ARSB No. AR-01), and Aeroclubul Romaniei Service Bulletin No.: SB-IS-28B2-AR-02, Revision 01, dated February 24, 2017 (ARSB No. AR-02). ARSB No. AR-01 describes procedures for inspection of the rear fuselage area to detect any cracks, ruptures, or corrosion. ARSB No. AR-02 describes procedures for installation of a modification to the upper stringer of the rear fuselage. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 30 products of U.S. registry. We also estimate that it would take about 2 work-hours per product to comply with the basic requirements of this proposed AD. The average labor rate is $85 per work-hour.

Based on these figures, we estimate the cost of the proposed AD on U.S. operators to be $5,100, or $170 per product.

In addition, we estimate that any necessary follow-on actions would take about 15 work-hours and require parts costing $1,000, for a cost of $2,275 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, and domestic business jet transport airplanes to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Intreprinderea De Constructii Aeronautice: Docket No. FAA-2017-1068; Product Identifier 2017-CE-034-AD.

(a) Comments Due Date

We must receive comments by December 29, 2017.

(b) Affected ADs

None.

(c) Applicability

This AD applies to Intreprinderea De Constructii Aeronautice IS-28B2 gliders, all serial numbers, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as cracks at stringers in the rear fuselage of several Model IS-28B2 gliders. We are issuing this AD to detect and correct cracks, which could lead to reduced structural strength resulting in loss of structural integrity and loss of control.

(f) Actions and Compliance

Unless already done, do the following actions in paragraphs (f)(1) and (2):

(1) Within 90 days after the effective date of this AD and repetitively thereafter at intervals not to exceed 50 hours time-in-service (TIS), inspect the rear fuselage structure following the instructions in Aeroclubul Romaniei Service Bulletin (SB) No.: SB-IS-28B2-AR-01, Revision 003, dated February 9, 2017.

(2) If any crack or corrosion is detected during any inspection required in paragraph (f)(1) of this AD, before further flight, modify the rear fuselage structure following the instructions in Aeroclubul Romaniei SB No.: SB-IS-28B2-AR-02, Revision 01, dated February 24, 2017.

(3) Completion of the modification to the rear fuselage structure as required in paragraph (f)(2) of this AD terminates the repetitive inspections required in paragraph (f)(1) of this AD.

(g) Reporting Requirement

Although Aeroclubul Romaniei SB No.: SB-IS-28B2-AR-01, Revision 003, dated February 9, 2017, specifies to submit certain information to the manufacturer, this AD does not require that action.

(h) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Small Airplane Standards Branch, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(i) Related Information

Refer to MCAI AD No.: 2016-0233, dated November 23, 2016; Aeroclubul Romaniei Service Bulletin No.: SB-IS-28B2-AR-01, Revision 003, dated February 9, 2017, and Aeroclubul Romaniei Service Bulletin No.: SB-IS-28B2-AR-02, Revision 01, dated February 24, 2017. You may examine the MCAI on the Internet at http://www.regulations.gov by searching for and locating Docket No. FAA-2017-1068. For service information related to this AD, contact Aeroclubul Romaniei, Bd.Lascar Catargiu, Nr.54, cod: 010673, Sector 1, Bucharest, Romania; telephone: 011+40 021-312-36-19; fax: 011+40 021-312-36-19; Internet: www.aeroclubulromaniei.ro; email: www.aeroclubulromaniei.ro/contact/. You may review this referenced service information at the FAA, Policy and Innovation Division, 901 Locust, Kansas City, Missouri 64106. For information on the availability of this material at the FAA, call (816) 329-4148.

Issued in Kansas City, Missouri, on November 3, 2017.
Melvin J. Johnson,
Acting Deputy Director, Policy & Innovation Division, Aircraft Certification Service.

[FR Doc. 2017-24500 Filed 11-13-17; 8:45 am]

BILLING CODE 4910-13-P